DEPARTMENT OF LABOR

[OMB Control No. 1290-0043]

Office of the Assistant Secretary for Policy; Proposed Extension of Information Collection; Formative Data Collections for Research and Evaluation

AGENCY: Office of the Assistant Secretary for Policy, Chief Evaluation Office, Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the Chief Evaluation Office (CEO) is soliciting comments on the information collection for Formative Data Collections for Research and Evaluation.

DATES: All comments must be received on or before August 25, 2025.

ADDRESSES: You may submit comment as follows. Please note that late, untimely filed comments will not be considered.

Email: ChiefEvaluationOffice@dol.gov; Mail or Courier: Bradley Hannon, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Bradley Hannon by email at ChiefEvaluationOffice@dol.gov or by phone at (202) 693-5912.

SUPPLEMENTARY INFORMATION:

I. Background

The Chief Evaluation Office (CEO) of DOL intends to design and conduct evaluations of DOL-funded programs. Under this generic clearance, DOL engages in a variety of formative data collections with researchers, practitioners, TA providers, service providers and potential participants throughout the field to fulfill the following goals: (1) inform the development of CEO research, (2) maintain a research agenda that is rigorous and relevant, (3) ensure that research products are as current as possible and (4) inform the provision of technical assistance. CEO uses a variety of techniques including semi-structured discussions, focus groups, surveys, and telephone or in-person interviews, in order to reach these goals. Following standard OMB requirements, DOL will submit a change request for each individual data collection activity under this generic clearance. Each request will include the individual instrument(s), a justification specific to the individual information collection, and any supplementary documents. OMB should review requests within 10 days of submission.

II. Desired Focus of Comments

CEO is soliciting comments concerning the proposed information collection related to the Formative Data Collections for Research and Evaluation. CEO is particularly interested in comments that:

• Evaluate whether the collection of information is necessary for the proper performance of the functions of the Agency, including whether the information has practical utility;

• Evaluate the accuracy of CEO's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

• Documents related to this information collection request are available at https://regulations.gov. Questions about the information collection requirements may be directed to the person listed in the FOR FURTHER INFORMATION section of this notice.

III. Current Actions

This information collection request concerns Formative Data Collections for Research and Evaluation. CEO has updated the data with respect to the number of respondents, responses, burden hours, and burden costs supporting this information collection request from the previous information collection request.

Type of Review: Extension, without change, of a currently approved collection.

Agency: Office of the Assistant Secretary for Policy, Chief Evaluation Office.

OMB Number: 1290-0043.

Affected Public: Businesses or other for-profits, Not-for-profit institutions, State and Local Governments, Individuals or Households.

Number of Respondents: 5,500.

Number of Responses: 5,500.

Annual Burden Hours: 5,500 hours.

Annual Respondent or Recordkeeper Cost: $0.

Comments submitted in response to this notice will be summarized in the request for Office of Management and Budget approval of the proposed information collection request; they will become a matter of public record and will be available at https://www.reginfo.gov.

Kuang-Chi Chang,
Acting Director of Research.

[FR Doc. 2025-11548 Filed 6-23-25; 8:45 am]

BILLING CODE 4510-HX-P